NATIONAL SCIENCE FOUNDATION

Sunshine Act Meeting

The National Science Board's Awards and Facilities Committee hereby gives notice of the scheduling of a teleconference for the transaction of National Science Board business, as follows:

TIME AND DATE: Tuesday, April 27, 2021, from 4:00-5:00 p.m. EDT.

PLACE: This meeting will be held by teleconference through the National Science Foundation.

STATUS: Closed.

MATTERS TO BE CONSIDERED: The agenda of the teleconference is: Chair's opening remarks, discussion of context of the National Ecological Observatory Network Operations and Management award extension, and Chair's closing remarks.

CONTACT PERSON FOR MORE INFORMATION: Point of contact for this meeting is: Michelle McCrackin, mmccrack@nsf.gov, (703) 292-7000. Meeting information and updates may be found at the National Science Board website www.nsf.gov/nsb.

Chris Blair,
Executive Assistant to the National Science Board Office.

[FR Doc. 2021-08563 Filed 4-21-21; 11:15 am]

BILLING CODE 7555-01-P